COMMITTEE FOR THE IMPLEMENTATION OF TEXTILE AGREEMENTS

Consolidation and Amendment of Export Visa Requirements to Include the Electronic Visa Information System for Certain Cotton, Man-Made Fiber, Silk Blend and Other Vegetable Fiber Textiles and Textile Products Produced or Manufactured in Pakistan

March 20, 2003.

AGENCY: Committee for the Implementation of Textile Agreements (CITA)

ACTION: Issuing a directive to the Commissioner, Bureau of Customs and Border Protection consolidating and amending visa requirements.

EFFECTIVE DATE: April 11, 2003.

FOR FURTHER INFORMATION CONTACT: Shikha Bhatnagar, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

On March 13, 2003, the Governments of the United States and Pakistan signed an agreement amending the existing Visa Arrangement for cotton, man-made fiber, silk blend and other vegetable fiber textiles and textile products in Categories 200-239, 300-361, 363-369 (excluding 369-O), 600-670, and 800-899, including part categories and merged categories, but not category 369-O, produced or manufactured in Pakistan. The amended Arrangement consolidates existing provisions and establishes new provisions for the Electronic Visa Information System (ELVIS). The Governments of the United States and Pakistan will implement a 6-month test phase in which, in addition to the ELVIS requirements, shipments must continue to be accompanied by a paper visa. This notice amends, but does not cancel, the notice and letter to the Commissioner of Customs, as amended, published in the Federal Register on June 6, 1983 (see 48 FR 25257).

A description of the textile and apparel categories in terms of HTS numbers is available in the CORRELATION: Textile and Apparel Categories with the Harmonized Tariff Schedule of the United States (see Federal Register notice 68 FR 1599, published on January 13, 2003).

Goods integrated into GATT 1994 in Stages II and III by the United States will not require a visa or ELVIS transmission (see Federal Register notices 63 FR 53881, published on October 7, 1998 and 66 FR 63225, published on December 5, 2001.

Interested persons are advised to take all necessary steps to ensure that textile products entered into the United States for consumption, or withdrawn from warehouse for consumption, will meet the visa requirements set forth in the letter published below to the Commissioner, Bureau of Customs and Border Protection.

James C. Leonard III,
Chairman, Committee for the Implementation of Textile Agreements.

Committee for the Implementation of Textile Agreements

March 20, 2003.

Commissioner,

Bureau of Customs and Border Protection, Washington, DC 20229.

Dear Commissioner: This directive amends, but does not cancel, the directive issued to you on May 27, 1983, as amended, by the Chairman, Committee for the Implementation of Textile Agreements. Under the terms of Section 204 of the Agricultural Act of 1956, as amended (7 U.S.C. 1854); and pursuant to the Uruguay Round Agreement on Textiles and Clothing and the Visa, ELVIS and Exempt Certification Arrangement, signed on March 13, 2003, between the Governments of the United States and Pakistan; and in accordance with the provisions of Executive Order 11651 of March 3, 1972, as amended, you are directed to prohibit entry into the customs territory of the United States (i.e. the 50 states, the District of Columbia and the Commonwealth of Puerto Rico) for consumption and withdrawal from warehouse for consumption of cotton, man-made fiber, silk blend and other vegetable fiber textiles and textile products in Categories 200-239, 300-361, 363-369 (excluding 369-O), 600-670, and 800-899, including part categories and merged categories, but not category 369-O, produced or manufactured in Pakistan and exported on or after April 11, 2003 for which the Government of Pakistan has not issued an appropriate export visa and Electronic Visa Information System (ELVIS) transmission fully described below. Should additional categories, part-categories or merged categories become subject to import quotas, the entire category(s), part-category(s) or merged category(s) shall be included in the coverage of this Arrangement. The original visa in blue ink shall be stamped on the front of the original commercial invoice.

A visa must accompany each shipment of the aforementioned textile products.

Visa Requirements

Each visa stamp will include the following information:

1. The visa number. The visa number shall be in the standard nine digit letter format beginning with one numeric digit for the last digit of the year of export, followed by the two character alpha code specified by the International Organization for Standardization (ISO) (The code for Pakistan is PK), and a six digit numerical serial number identifying the shipment; e.g., 3PK123456.

2. The date of issuance. The date of issuance shall be the day, month, and year on which the visa was issued.

3. The original signature of the issuing official authorized by the Government of Pakistan.

4. The correct category(s), merged category(s), part category(s), quantity(s), and units of quantity in the shipment in the units(s) of quantity provided for in the U.S. Department of Commerce Correlation and in the Harmonized Tariff Schedule of the United States (HTSUS), e.g., “Cat. 340-510 DZ”.

Quantities must be stated in whole numbers. Decimals or fractions will not be accepted. Merged category quota merchandise may be accompanied by either the appropriate merged category visa or the correct category visa corresponding to the actual shipment. (For example, quota Category 347/348 may be visaed as “Cat. 347/348” or if the shipment consists solely of Category 347 merchandise, the shipment may be visaed as “Cat. 347,” but not as “Cat. 348”).

The Bureau of Customs and Border Protection shall not permit entry if the shipment does not have a visa, or if the visa number, date of issuance, signature, category, quantity are missing, incorrect, illegible, or have been crossed out or altered in any way. If the quantity indicated on the visa is less than that of the shipment, entry shall not be permitted. If the quantity indicated on the visa is more than that of the shipment, entry shall be permitted and only the amount entered shall be charged to any applicable quota.

Quantities shall be those determined by the Bureau of Customs and Border Protection.

If the visa is not acceptable then a new visa must be obtained from the Pakistan Government or a visa waiver issued by the U.S. Department of Commerce at the request of the Pakistan Government and presented to the Bureau of Customs and Border Protection before any portion of the shipment will be released. The waiver, if used, only waives the requirement to present a visa with the shipment. It does not waive the quota requirement. Visa waivers will only be issued for classification purposes or for one-time special purpose shipments that are not part of an ongoing commercial enterprise.

If the visaed invoice is deficient, the Bureau of Customs and Border Protection will not return the original document after entry, but will provide a certified copy of that visaed invoice for use in obtaining a new correct original visaed invoice, or a visa waiver.

Only the actual quantity in the shipment and the correct category will be charged to the restraint level.

ELVIS Requirements:

A. Each ELVIS transmission shall include the following information:

i. The visa number: The visa number shall be in the standard nine digit letter format beginning with one numeric digit for the last digit of the year of export, followed by the two character alpha code specified by the International Organization for Standardization (ISO) (The code for Pakistan is PK), and a six digit numerical serial number identifying the shipment; e.g., 3PK123456.

ii. The date of issuance: The date of issuance shall be the day, month and year on which the visa was issued.

iii. The correct category(s), merged category(s), part category(s), quantity(s), and unit(s) of quantity of the shipment in the unit(s) of quantity provided for in the U.S. Department of Commerce Correlation and in the Harmonized Tariff Schedule of the United States. Quantities must be stated in whole numbers. Decimals or fractions will not be accepted.

iv. The quantity of the shipment in the correct units of quantity

v. The manufacturer ID number (MID)

B. Entry of a shipment shall not be permitted:

I. if an ELVIS transmission has not been received for the shipment from the Government of Pakistan;

II.if the ELVIS transmission for that shipment is missing any of the following information:

i) visa number

ii) category, part category, or merged category

iii) quantity

iv) unit of measure

v) date of issuance

vi) manufacturer ID number

III. if the ELVIS transmission for the shipment does not match the information supplied by the importer, or the Customs broker acting as an agent on behalf of the importer, with regard to any of the following:

i) visa number

ii) category, part category, or merged category

iii) unit of measure

IV. If the quantity being entered is greater than the quantity transmitted.

V. If the visa number has previously been used, except in the case of a split shipment, or cancelled, except when entry has already been made using the visa number.

C. A new, correct ELVIS transmission from the Government of Pakistan is required before a shipment that has been denied entry for one the circumstances mentioned above will be released.

D. Visa waivers will only be accepted if the shipment qualifies for a one-time special purpose shipment that is not part of an ongoing commercial enterprise. A visa waiver may be issued by the Department of Commerce at the request of the Pakistan Embassy in Washington, DC. A visa waiver only waives the requirements to present an ELVIS transmission at the time of entry, and doesn't waive any quota requirements.

E. In the event of a systems failure, shipments will not be released for twenty-four hours or 1 calendar day. If system failure exceeds twenty-four hours or 1 calendar day, for the remaining period of the system failure the Bureau of Customs and Border Protection will release shipments on the basis of the visa data provided by the Government of Pakistan. Pakistan will retransmit all data that was affected by the systems failure when the system is functioning normally.

Shipments not requiring visas, ELVIS transmission or exempt certifications:

Merchandise imported for the personal use of the importer and not for resale, regardless of value, and properly marked commercial sample shipments valued at U.S. $800 or less do not require a visa, an ELVIS transmission or exempt certification for entry and shall not be charged to Agreement levels.

Other Provisions:

An invoice may cover visaed merchandise or exempt certification merchandise but not both.

Goods integrated into GATT 1994 in Stages II and III by the United States will not require a visa or ELVIS transmission (see Federal Register notices 63 FR 53881, published on October 7, 1998 and 66 FR 63225, published on December 5, 2001, respectively). A visa and ELVIS transmission will continue to be required for non-integrated products.

The visa stamp remains unchanged. The Exempt Certification requirements remain unchanged.

The Committee for the Implementation of Textile Agreements has determined that this action fall with the foreign affairs exception to the rulemaking provisions of 5 U.S.C. 553(a)(1).

Sincerely,

James C. Leonard III,

Chairman, Committee for the Implementation of Textile Agreements.

[FR Doc. 03-7189 Filed 3-25-03; 8:45 am]

BILLING CODE 3510-DR-S